DEPARTMENT OF COMMERCE

National Oceanic and Atmospheric Administration

50 Part 622

[Docket No. 060731206-6280-02; I.D. 072806A]

RIN 0648-AS67

Fisheries of the Caribbean, Gulf of Mexico, and South Atlantic; Reef Fish Fishery of the Gulf of Mexico; Amendment 26

Correction

In rule document 06-9342 beginning on page 67447 in the issue of Wednesday, November 22, 2006, make the following correction:

§622.2 [Corrected]

On page 67458, in the first column, in §622.2, in amendatory instruction 6.D., in the second line, “(p)(i)” should read “(p)(1)”

[FR Doc. C6-9342 Filed 12-27-06; 8:45 am]

BILLING CODE 1505-01-D